DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Housing Vacancy Survey.

Form Number(s): CPS-263, HVS-600.

Agency Approval Number: 0607-0179.

Type of Request: Revision of a currently approved collection.

Burden: 3,456 hours.

Number of Respondents: 69,120.

Avg Hours Per Response: 3 minutes.

Needs and Uses: The purpose of this request for review is to obtain clearance for the collection of demographic information in the Housing Vacancy Survey (HVS) beginning in December 2002. The current clearance expires November 30, 2002.

We collect the HVS data for a sample of vacant housing units identified in the monthly Current Population Survey (CPS) sample and provide the only quarterly and annual statistics on rental vacancy rates, home ownership rates for the United States, the four census regions, inside vs. outside metropolitan areas (MAs), the 50 States, the District of Columbia, and the 75 largest Mas. Information is collected from homeowners, realtors, landlords, rental agents, neighbors or other knowledgeable persons. Private and public sector organizations use these rates extensively to gauge and analyze the housing market with regard to supply, cost, and afford ability at various points in time. In addition, the rental vacancy rate is a component of the leading economic indicators, published by the Department of Commerce.

Affected Public: Individuals or households.

Frequency: Monthly.

Respondent's Obligation: Voluntary.

Legal Authority: Title 13 U.S.C., Section 182.

OMB Desk Officer: Susan Schechter, (202) 395-5103.

Copies of the above information collection proposal can be obtained by calling or writing Madeleine Clayton, Departmental Paperwork Clearance Officer, (202) 482-3129, Department of Commerce, room 6608, 14th and Constitution Avenue, NW., Washington, DC 20230 (or via the Internet at mclayton@doc.gov).

Written comments and recommendations for the proposed information collection should be sent within 30 days of publication of this notice to Susan Schechter, OMB Desk Officer, room 10201, New Executive Office Building, Washington, DC 20503.

Dated: August 13, 2002.
Madeleine Clayton,
Departmental Paperwork Clearance Officer, Office of the Chief Information Officer.

[FR Doc. 02-20927 Filed 8-16-02; 8:45 am]

BILLING CODE 3510-07-P